DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Annual Capital Expenditures Survey.

Form Number(s): ACE-1 (S), ACE-1 (M), ACE-1(Long), ACE-1 (I), ACE-2, ACE-2 (I).

Agency Approval Number: 0607-0782.

Type of Request: Revision of a currently approved collection.

Burden: 132,900 hours.

Number of Respondents: 61,000.

Avg Hours per Response: ACE-1 (S)—2 hours, ACE-1 (M)—3 hours, ACE-1 (Long)—16 hours, ACE-2—1 hour.

Needs and Uses: A major concern of economic policymakers is the adequacy of investment in plant and equipment. Data on the amount of business expenditures for new plant and equipment and measures of the stock of existing facilities are critical to evaluate productivity growth, the ability of U.S. business to compete with foreign business, changes in industrial capacity, and measures of overall economic performance. The ACES is the current source of comprehensive statistics on business investment in buildings and other structures, machinery, and equipment for private nonfarm businesses in the United States. The ACES is an integral part of the Federal Government statistical program to improve and supplement ongoing statistical programs. Federal Government agencies, including the Census Bureau, use the data to improve and supplement ongoing statistical programs.

This request is for a revision of a currently approved collection and covers the 2004 through 2006 ACES. Major revisions from the previously approved collection are the elimination of the collection of detailed capital expenditures by type of structure and type of equipment, and the incorporation of the 2002 North American Industry Classification System (NAICS) into the ACES. Detailed capital expenditures by type of structure and type of equipment data were collected in the 2003 ACES. These data, collected together once every five years, will not be requested again until the 2008 ACES. Beginning with the 2004 ACES we will publish data by the 2002 NAICS. We will collect and publish data for approximately 136 industries. This is an increase of four industries from the 1997 NAICS.

The plan for the continued survey is a basic annual survey that collects fixed assets and depreciation, sales and receipts, total capital expenditures for new and used structures and equipment separately, and capitalized computer software developed or obtained for internal use, from employer enterprises. This collection is intended to represent the capital expenditure activity of all employer firms and provide comprehensive control estimates of total capital expenditures for structures and equipment by industry. Companies that operate in only one industry will receive an ACE-1 (S) form. These companies are not asked to report capital expenditures by industry which eliminates the need for respondent industry coding. Companies that operate in more than one but less than nine industries will receive an ACE-1 (M) form. And, companies that operate in nine or more industries will receive an ACE-1 (L) form.

All ACE-1 forms request sales and receipts information to calculate industry investment to sales ratios and to assist in verifying that consolidated company data are being reported. Assets and depreciation information collected assists in measuring changes in the Nation's capital stock estimates. As part of the basic survey, we also collect data annually from a small sample of nonemployer enterprises. Using Form ACE-2, the survey will request that nonemployer companies report current year capital expenditures data. This collection is intended to better represent total capital expenditures activity of all firms.

Affected Public: Business or other for-profit, Not-for-profit institutions.

Frequency: Annually.

Respondent's Obligation: Mandatory.

Legal Authority: Title 13 U.S.C., Sections 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202) 395-7245 or e-mail (susan_schechter@omb.eop.gov).

Dated: December 13, 2004.
Madeleine Clayton,
Management Analyst, Office of the Chief Information Officer.

[FR Doc. 04-27586 Filed 12-16-04; 8:45 am]

BILLING CODE 3510-07-P